DEPARTMENT OF COMMERCE

International Trade Administration

Antidumping or Countervailing Duty Order, Finding, or Suspended Investigation; Opportunity To Request Administrative Review

AGENCY: Import Administration, International Trade Administration, Department of Commerce.

ACTION: Notice of opportunity to request administrative review of antidumping or countervailing duty order, finding, or suspended investigation.

Background

Each year during the anniversary month of the publication of an antidumping or countervailing duty order, finding, or suspension of investigation, an interested party, as defined in section 771(9) of the Tariff Act of 1930, as amended, may request, in accordance with § 351.213 (2002) of the Department of Commerce (the Department) Regulations, that the Department conduct an administrative review of that antidumping or countervailing duty order, finding, or suspended investigation.

Opportunity to Request a Review: Not later than the last day of July 2004, interested parties may request administrative review of the following orders, findings, or suspended investigations, with anniversary dates in July for the following periods:

| Period
Antidumping Duty Proceedings
Belarus: Solid Urea, A-822-801 | 7/1/03-6/30/04
Brazil: | Industrial Nitrocellulose, A-351-804 | 7/1/03-6/30/04
Silicon Metal, A-351-806 | 7/1/03-6/30/04
Chile: | Fresh Atlantic Salmon, A-337-803 | 7/1/03-6/30/04
IQF Red Raspberries, A-337-806 | 7/1/03-6/30/04
Estonia: Solid Urea, A-447-801 | 7/1/03-6/30/04
France: Stainless Steel Sheet and Strip in Coils, A-427-814 | 7/1/03-6/30/04
Germany: | Industrial Nitrocellulose, A-428-803 | 7/1/03-6/30/04
Stainless Steel Sheet and Strip in Coils, A-428-825 | 7/1/03-6/30/04
India: Polyethylene Terephthalate (Pet) Film, A-533-824 | 7/1/03-6/30/04
Iran: In-Shell Pistachio Nuts, A-507-502 | 7/1/03-6/30/04
Italy: | Certain Pasta, A-475-818 | 7/1/03-6/30/04
Stainless Steel Sheet and Strip in Coils, A-475-824 | 7/1/03-6/30/04
Japan: | Cast Iron Pipe Fittings, A-588-605 | 7/1/03-6/30/04
Clad Steel Plate, A-588-838 | 7/1/03-6/30/04
Industrial Nitrocellulose, A-588-812 | 7/1/03-6/30/04
Polyvinyl Alcohol, A-588-861 | 6/27/03-6/30/04
Stainless Steel Sheet and Strip in Coils, A-588-845 | 7/1/03-6/30/04
Lithuania: Solid Urea, A-451-801 | 7/1/03-6/30/04
Mexico: Stainless Steel Sheet and Strip in Coils, A-201-822 | 7/1/03-6/30/04
Republic of Korea: | Industrial Nitrocellulose, A-580-805 | 7/1/03-6/30/04
Stainless Steel Sheet and Strip in Coils, A-580-834 | 7/1/03-6/30/04
Romania: Solid Urea, A-485-601 | 7/1/03-6/30/04
Russia: | Ferrovanadium and Nitrided Vanadium, A-821-807 | 7/1/03-6/30/04
Russia: Solid Urea, A-821-801 | 7/1/03-6/30/04
Tajikistan: Solid Urea, A-842-801 | 7/1/03-6/30/04
Taiwan: Stainless Steel Sheet and Strip in Coils, A-583-831 | 7/1/03-6/30/04
Thailand: | Butt-Weld Pipe Fittings, A-549-807 | 7/1/03-6/30/04
Canned Pineapple, A-549-813 | 7/1/03-6/30/04
Furfuryl Alcohol, A-549-812 | 7/1/03-6/30/04
The People's Republic of China: | Bulk Aspirin, A-570-853 | 7/1/03-6/30/04
Butt-Weld Pipe Fittings, A-570-814 | 7/1/03-6/30/04
Industrial Nitrocellulose, A-570-802 | 7/1/03-6/30/04
Persulfates, A-570-847 | 7/1/03-6/30/04
Saccharin, A-570-878 | 12/27/02-6/30/04
Sebacic Acid, A-570-825 | 7/1/03-6/30/04
Industrial Nitrocellulose, A-412-803 | 7/1/03-6/30/04
Stainless Steel Sheet and Strip in Coils, A-412-818 | 7/1/03-6/30/04
Turkmenistan: Solid Urea, A-843-801 | 7/1/03-6/30/04
Turkey: Certain Pasta, A-489-805 | 7/1/03-6/30/04
Ukraine: Solid Urea, A-823-801 | 7/1/03-6/30/04
Uzbekistan: Solid Urea, A-844-801 | 7/1/03-6/30/04
Countervailing Duty Proceedings
European Economic Community: Sugar, C-408-046 | 1/1/03-12/31/03
India: Polyethylene Terephthalate (Pet) Film, C-533-825 | 1/1/03-12/31/03
Italy: Certain Pasta, C-475-819 | 1/1/03-12/31/03
Turkey: Certain Pasta, C-489-806 | 1/1/03-12/31/03
Suspension Agreements
Brazil: Hot-Rolled Flat-Rolled Carbon-Quality Steel Products, C-351-829 | 1/1/03-12/31/03
Russia: Hot-Rolled Flat-Rolled Carbon-Quality Steel Products, A-821-809 | 1/1/03-12/31/03

In accordance with § 351.213(b) of the regulations, an interested party as defined by section 771(9) of the Act may request in writing that the Secretary conduct an administrative review. For both antidumping and countervailing duty reviews, the interested party must specify the individual producers or exporters covered by an antidumping finding or an antidumping or countervailing duty order or suspension agreement for which it is requesting a review, and the requesting party must state why it desires the Secretary to review those particular producers or exporters. If the interested party intends for the Secretary to review sales of merchandise by an exporter (or a producer if that producer also exports merchandise from other suppliers) which were produced in more than one country of origin and each country of origin is subject to a separate order, then the interested party must state specifically, on an order-by-order basis, which exporter(s) the request is intended to cover.

As explained in Antidumping and Countervailing Duty Proceedings: Assessment of Antidumping Duties, 69 FR 23954 (May 6, 2003), the Department has clarified its practice with respect to the collection of final antidumping duties on imports of merchandise where intermediate firms are involved. The public should be aware of this clarification in determining whether to request an administrative review of merchandise subject to antidumping findings and orders. See also the Import Administration Web site at www.ia.ita.doc.gov.

Six copies of the request should be submitted to the Assistant Secretary for Import Administration, International Trade Administration, Room 1870, U.S. Department of Commerce, 14th Street and Constitution Avenue, NW., Washington, DC 20230. The Department also asks parties to serve a copy of their requests to the Office of Antidumping/ Countervailing Enforcement, Attention: Sheila Forbes, in room 3065 of the main Commerce Building. Further, in accordance with § 351.303(f)(l)(i) of the regulations, a copy of each request must be served on every party on the Department's service list.

The Department will publish in the Federal Register a notice of “Initiation of Administrative Review of Antidumping or Countervailing Duty Order, Finding, or Suspended Investigation” for requests received by the last day of July 2004. If the Department does not receive, by the last day of July 2004, a request for review of entries covered by an order, finding, or suspended investigation listed in this notice and for the period identified above, the Department will instruct the U.S. Customs and Border Protection to assess antidumping or countervailing duties on those entries at a rate equal to the cash deposit of (or bond for) estimated antidumping or countervailing duties required on those entries at the time of entry, or withdrawal from warehouse, for consumption and to continue to collect the cash deposit previously ordered.

This notice is not required by statute but is published as a service to the international trading community.

Dated: June 25, 2004.
Holly A. Kuga,
Senior Office Director, Office for Import Administration.

[FR Doc. 04-14982 Filed 6-30-04; 8:45 am]

BILLING CODE 3510-DS-P